DEPARTMENT OF TRANSPORTATION

Federal Railroad Administration

49 CFR Part 213

[Docket No. RST-90-1, Notice No. 13]

RIN 2130-AB32

Track Safety Standards; Delay of Effective Date

AGENCY: Federal Railroad Administration (FRA), Department of Transportation, (DOT).

ACTION: Final rule and corrections; delay of effective date.

SUMMARY: In accordance with the memorandum of January 20, 2001, from the Assistant to the President and Chief of Staff, entitled “Regulatory Review Plan,” published in the Federal Register on January 24, 2001, 66 FR 7702, this action temporarily delays for 60 days the effective date of the rule entitled Track Safety Standards, published in the Federal Register on January 10, 2001, 66 FR 1894. That rule concerns an amendment to the Track Safety Standards which provides procedures for track owners to use Gage Restraint Measuring Systems (GRMS) to assess the ability of their track to maintain proper gage.

Likewise, this action temporarily delays for 60 days the effective date of the document entitled Track Safety Standards; Correction, published in the Federal Register on January 31, 2001, 66 FR 8372. This document corrects inadvertent errors contained in the above rule.

DATES: The effective date of the final rule amending 49 CFR part 213 published in the Federal Register on January 10, 2001, at 66 FR 1894, is delayed for 60 days, from April 10, 2001, until June 9, 2001. The effective date of the Corrections to the final rule amending 49 CFR part 213 published in the Federal Register on January 31, 2001, at 66 FR 8372 is delayed for 60 days, from April 10, 2001, until June 9, 2001.

FOR FURTHER INFORMATION CONTACT: Nancy Lummen Lewis, Office of Chief Counsel, Federal Railroad Administration, 1120 Vermont Avenue, NW., Mail Stop 10, Washington, DC 20590 (telephone: 202-493-6047).

SUPPLEMENTARY INFORMATION: To the extent that 5 U.S.C. section 553 applies to this action, it is exempt from notice and comment because it constitutes a rule of procedure under 5 U.S.C. section 553(b)(A). Alternatively, FRA's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Issued in Washington, DC on January 31, 2001.
Ray Rogers,
Acting Deputy Administrator.

[FR Doc. 01-3211 Filed 2-8-01; 8:45 am]

BILLING CODE 4910-06-P